DEPARTMENT OF COMMERCE

National Oceanic and Atmospheric Administration

RIN 0648-XD854

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Electronic Monitoring Working Group to consider actions affecting New England fisheries in the exclusive economic zone (EEZ). Recommendations from this group will be brought to the full Council for formal consideration and action, if appropriate.

DATES: This meeting will be held on Wednesday, April 8, 2015 at 9:30 a.m.

ADDRESSES: Meeting address: The meeting will be held at the NOAA Greater Atlantic Regional Fisheries Office, 55 Great Republic Drive, Gloucester, MA 01930; telephone: (978) 281-9300; fax: (978) 281-9333.

Council address: New England Fishery Management Council, 50 Water Street Mill 2, Newburyport, MA 01950.

FOR FURTHER INFORMATION CONTACT: Thomas A. Nies, Executive Director, New England Fishery Management Council; telephone: (978) 465-0492.

SUPPLEMENTARY INFORMATION: The items of discussion on the agenda are:

The group will continue development of the white paper, Toward Implementation of Electronic Monitoring in groundfish fishery sectors. The group will also discuss recommendations. Other business will be discussed as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: March 19, 2015.
William D. Chappell,
Acting Deputy Director, Office of Sustainable Fisheries, National Marine Fisheries Service.

[FR Doc. 2015-06660 Filed 3-23-15; 8:45 am]

BILLING CODE 3510-22-P